ENVIRONMENTAL PROTECTION AGENCY

[IL227-1; FRL-8220-8]

Notice of Prevention of Significant Deterioration Final Determination for Prairie State Generating Company

AGENCY: Environmental Protection Agency (EPA).

ACTION: Notice of final action.

SUMMARY: This notice announces that on August 24, 2006, the Environmental Appeals Board (EAB) of the EPA denied a petition for review of a Federal Prevention of Significant Deterioration (PSD) permit issued to Prairie State Generating Company by the Illinois Environmental Protection Agency (IEPA).

DATES: The effective date for the EAB's decision is August 24, 2006. Pursuant to Section 307(b)(1) of the Clean Air Act, 42 U.S.C. 7607(b)(1), judicial review of this permit decision, to the extent it is available, may be sought by filing a petition for review in the United States Court of Appeals for the Seventh Circuit within 60 days of September 19, 2006.

ADDRESSES: The documents relevant to the above action are available for public inspection during normal business hours at the following address: Environmental Protection Agency, Region 5, 77 West Jackson Boulevard (AR-18J), Chicago, Illinois 60604. To arrange viewing of these documents, call Genevieve Damico at (312) 353-4761.

FOR FURTHER INFORMATION CONTACT: Genevieve Damico, Air and Radiation Division, Air Programs Branch, Environmental Protection Agency, Region 5, 77 W. Jackson Boulevard (AR-18J), Chicago, Illinois 60604. Anyone who wishes to review the EAB decision can obtain it at http://www.epa.gov/eab/.

Notification of EAB Final Decision

The IEPA, acting under authority of a PSD delegation agreement, issued a PSD permit to Prairie State Generating Company on April 28, 2005, granting approval to construct two coal-fired steam electric generating units, each with a nominal generating capacity of 750 net megawatts in Washington County, Illinois. The American Bottom Conservancy, American Lung Association of Metropolitan Chicago, Clean Air Task Force, Health and Environmental Justice-St. Louis, Lake County Conservation Alliance, Sierra Club and Valley Watch filed a petition for review with the EAB on June 8, 2005. The EAB denied review of the petition on August 24, 2006. The permit became effective on August 24, 2006.

Dated: September 11, 2006.
Bharat Mathur,
Acting Regional Administrator, Region 5.

[FR Doc. E6-15538 Filed 9-18-06; 8:45 am]

BILLING CODE 6560-50-P